DEPARTMENT OF HOMELAND SECURITY

Coast Guard

33 CFR Part 117

[Docket No. USCG-2016-0877]

Drawbridge Operation Regulation; Willamette River, Portland, OR

AGENCY: Coast Guard, DHS.

ACTION: Notice of deviation from drawbridge regulation.

SUMMARY: The Coast Guard has issued a temporary deviation from the operating schedule that governs three Multnomah County, Oregon bridges: the Broadway Bridge; the Burnside Bridge; and the Hawthorne Bridge; all crossing the Willamette River at Portland, OR. The deviation is necessary to accommodate the Portland Marathon foot race event. This deviation allows the bridges to remain in the closed-to-navigation position to allow for the safe movement of event participants.

DATES: This deviation is effective from 5 a.m. to 3 p.m. on October 9, 2016.

ADDRESSES: The docket for this deviation, [USCG-2016-0877] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Multnomah County, Oregon has requested a temporary deviation from the operating schedule for the Broadway Bridge, mile 11.7; Burnside Bridge, mile 12.4; and Hawthorne Bridge, mile 13.1; all crossing the Willamette River at Portland, OR. The deviation is necessary to accommodate Portland Marathon participants' safe movement over the bridges. To facilitate this event, the draws of theses bridges will be maintained as follows: The Broadway Bridge provides a vertical clearance of 90 feet in the closed-to-navigation position; the Burnside Bridge provides a vertical clearance of 64 feet in the closed-to-navigation position; and the Hawthorne Bridge provides a vertical clearance of 49 feet in the closed-to-navigation position; all clearances are referenced to the vertical clearance above Columbia River Datum 0.0. The normal operating schedule for all three bridges is in 33 CFR 117.897.

The deviation period is from 5 a.m. until 3 p.m. on October 9, 2016. Waterway usage on the Willamette River ranges from commercial tug and barge to small pleasure craft. Vessels able to pass through the Broadway Bridge, the Burnside Bridge, and the Hawthorne Bridge in the closed-to-navigation position may do so at anytime. These bridges will be able to open for emergency vessels in route to a call. The Willamette River has no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: September 9, 2016.
Steven M. Fischer,
Bridge Administrator, Thirteenth Coast Guard District.

[FR Doc. 2016-22548 Filed 9-19-16; 8:45 am]

BILLING CODE 9110-04-P